NUCLEAR REGULATORY COMMISSION

[Docket Nos. 50-275, 50-323, and 72-26; NRC-2015-0244]

Pacific Gas and Electric Company; Diablo Canyon Power Plant, Units 1 and 2, and Diablo Canyon Independent Spent Fuel Storage Installation

AGENCY: Nuclear Regulatory Commission.

ACTION: Finding of no significant impact with associated environmental assessment; final issuance.

SUMMARY: The U.S. Nuclear Regulatory Commission (NRC) is issuing an environmental assessment (EA) and finding of no significant impact (FONSI) related to a request to amend the Facility Operating License Nos. DPR-80, DPR-82, and SNM-2511 issued to Pacific Gas and Electric Company (PG&E), for operation of the Diablo Canyon Power Plant, Units 1 and 2, including the specific-license Independent Spent Fuel Storage Installation (hereinafter DCPP or the facility), located in San Luis Obispo County, California. The requested amendments would permit licensee security personnel to use certain firearms and ammunition feeding devices not previously permitted, notwithstanding State, local, and certain Federal firearms laws or regulations that otherwise prohibit such actions.

ADDRESSES: Please refer to Docket ID NRC-2015-0244 when contacting the NRC about the availability of information regarding this document. You may obtain publicly-available information related to this document using any of the following methods:

• Federal Rulemaking Web site: Go to http://www.regulations.gov and search for Docket ID NRC-2015-0244. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if that document is available in ADAMS) is provided the first time that a document is referenced. The application for amendments, dated September 24, 2013, and letter dated December 18, 2013, contain sensitive unclassified non-safeguards information (SUNSI) and are being withheld from public disclosure. A redacted version of the application for amendments, dated September 24, 2013, is available in ADAMS under Accession No. ML13268A398. The supplement dated December 18, 2013, is withheld in its entirety.

• NRC's PDR: You may examine and purchase copies of public documents at the NRC's PDR, Room O1-F21, One White Flint North, 11555 Rockville Pike, Rockville, Maryland 20852.

FOR FURTHER INFORMATION CONTACT: Siva P. Lingam, Office of Nuclear Reactor Regulation, U.S. Nuclear Regulatory Commission, Washington DC 20555-0001; telephone: 301-415-1564, email: Siva.Lingam@nrc.gov.

SUPPLEMENTARY INFORMATION:

I. Introduction

The NRC is considering a request to amend the Facility Operating License Nos. DPR-80, DPR-82, and SNM-2511 issued to PG&E, for operation of DCPP, located in San Luis Obispo County, California in accordance with 10 CFR 50.90 of title 10 of the Code of Federal Regulations (10 CFR). Consistent with 10 CFR 51.21, the NRC has reviewed the requirements in 10 CFR 51.20(b) and 10 CFR 51.22(c) and determined that an EA is the appropriate form of environmental review. Based on the results of the EA, the NRC is issuing this final FONSI. The requested amendments would permit licensee security personnel to use certain firearms and ammunition feeding devices not previously permitted, notwithstanding State, local, and certain Federal firearms laws, or regulations that otherwise prohibit such actions. The NRC published a draft EA and FONSI on the proposed action for public comment in the Federal Register on October 28, 2015 (80 FR 66054). No comments were received.

II. Environmental Assessment

Identification of the Proposed Action

The proposed action would permit security personnel at DCPP in the performance of their official duties, to transfer, receive, possess, transport, import, and use certain firearms, and large capacity ammunition feeding devices not previously permitted to be owned or possessed, notwithstanding State, local, and certain Federal firearms laws, or regulations, that otherwise prohibit such actions.

The proposed action is in accordance with the PG&E's application dated September 24, 2013 (ADAMS Accession No. ML13268A398), as supplemented by letters dated December 18, 2013, May 15, 2014 (ADAMS Accession No. ML14135A379), and March 26, 2015 (ADAMS Accession No. ML15085A572).

The Need for the Proposed Action

The proposed action would allow the transfer, receipt, possession, transportation, importation and use of those firearms and devices needed in the performance of official duties required for the protection of an NRC designated facility and associated special nuclear materials, consistent with the NRC approved security plan.

Environmental Impacts of the Proposed Action

The NRC has completed its evaluation of the proposed action and concludes that the proposed action would only allow the use of those firearms and devices necessary to protect DCPP and associated special nuclear material, consistent with the DCPP NRC-approved security plan. Therefore, the proposed action would not significantly increase the probability or consequences of accidents. In addition, the proposed action would not change the types and the amounts of any effluents that may be released offsite. There would also be no significant increase in occupational or public radiation exposure. Therefore, there would be no significant radiological environmental impacts associated with the proposed action.

The proposed action would not impact land, air, or water resources, including biota. In addition, the proposed action would not result in any socioeconomic or environmental justice impacts or impacts to historic and cultural resources. Therefore, there would also be no significant non-radiological environmental impacts associated with the proposed action.

Accordingly, the NRC concludes that the issuance of the requested amendment would not result in significant environmental impacts.

Details of the NRC's evaluation will be provided in a letter to the licensee.

Environmental Impacts of the Alternatives to the Proposed Action

As an alternative to the proposed action, the staff considered denying the proposed action (i.e., the “no-action” alternative). Denial of the license amendment request would result in no change in current environmental conditions at the DCPP.

Alternative Use of Resources

The proposed action would not involve the use of any resources.

Agencies and Persons Consulted

The staff did not consult with any other Federal Agency or State of California agencies regarding the environmental impact of the proposed action.

III. Finding of No Significant Impact

The licensee has requested license amendments to permit licensee security personnel in the performance of official duties, to transfer, receive, possess, transport, import, and use certain firearms, and large capacity ammunition feeding devices not previously permitted to be owned or possessed notwithstanding State, local, and certain Federal firearms laws, including regulations that would otherwise prohibit such actions.

On the basis of the information presented in this environmental assessment, the NRC concludes that the proposed action would not cause any significant environmental impact and would not have a significant effect on the quality of the human environment. In addition, the NRC has determined that an environmental impact statement is not necessary for the evaluation of this proposed action.

Other than the licensee's application dated September 24, 2013, there are no other environmental documents associated with this review. These documents are available for public inspection as indicated above.

Dated at Rockville, Maryland, this 8 day of December 2015.
For the Nuclear Regulatory Commission.
Robert J. Pascarelli,
Chief, Plant Licensing Branch IV-1, Division of Operating Reactor Licensing, Office of Nuclear Reactor Regulation.

[FR Doc. 2015-31529 Filed 12-14-15; 8:45 am]

BILLING CODE 7590-01-P